ENVIRONMENTAL PROTECTION AGENCY

40 CFR Part 271

[FRL-7074-2]

Idaho: Final Authorization of State Hazardous Waste Management Program Revision

AGENCY: Environmental Protection Agency (EPA).

ACTION: Withdrawal of immediate final rule.

SUMMARY: We are withdrawing the immediate final rule for Idaho: Final Authorization of State Hazardous Waste Management Program Revision published on August 22, 2001, 66 FR 44071, which approved revisions to Idaho's Hazardous Waste Regulations. We stated in the immediate final rule that if we received comments that oppose this authorization, we would publish a timely notice of withdrawal in the Federal Register. Subsequently, we received comments that oppose this action. We will address these comments in a subsequent final action based on the proposed rule also published on August 22, 2001, at 66 FR 44107.

DATES: As of October 5, 2001, we withdraw the immediate final rule published on August 22, 2001, 66 FR 44071.

FOR FURTHER INFORMATION CONTACT: Jeff Hunt, (206) 553-0256, US EPA Region 10, Mailstop WCM-122, 1201 Sixth Ave, Seattle, Washington 98101.

SUPPLEMENTARY INFORMATION: Because we received comments that oppose this authorization, we are withdrawing the immediate final rule for Idaho: Final Authorization of State Hazardous Waste Management Program Revisions published on August 22, 2001, at 66 FR 44071, which intended to grant authorization for the revisions to Idaho's Hazardous Waste Regulations. We stated in the immediate final rule that if we received comments that opposed this action, we would publish a timely notice of withdrawal in the Federal Register. We received comments that opposed this action. We will address all comments in a subsequent final action based on the proposed rule previously published on August 22, 2001, at 66 FR 44107, and will not provide for additional public comment during the final action.

Dated: September 24, 2001.
Charles E. Findley,
Acting Regional Administrator, Region 10.

[FR Doc. 01-24905 Filed 10-4-01; 8:45 am]

BILLING CODE 6560-50-P